DEPARTMENT OF TRANSPORTATION

Federal Highway Administration

Federal Transit Administration

Environmental Impact Statement: City and County of Denver, CO

AGENCY: Federal Highway Administration (FHWA) and Federal Transit Administration (FTA), Deparmtent of Transportation (DOT).

ACTION: Notice of intent.

SUMMARY: FHWA and FTA are issuing this notice to advise the public that an environmental impact statement/Section 4(f) Evaluation will be prepared for transportation improvements in the city and County of Denver, Adams County, and the City of Aurora, Colorado.

FOR FURTHER INFORMATION CONTACT: Shaun Cutting, Senior Operations Engineer, FHWA, Colorado Division, 555 Zang Street, Room 250, Lockwood, CO, 80228, Telephone: (303) 969-6730 extension 369. Dave Beckhouse, Community Planner, FTA, 216 16th Street, Suite 650, Denver, CO, 80202, Telephone: (303) 844-3242. Sharon Lipp, Colorado Department of Transportation, Region 6, 2000 South Holly Street, Denver, CO, 80222, Telephone: (303) 984-5260. Mike Turner, Regional Transportation District, 1600 Blake Street, Denver, CO, 80202, Telephone: (303) 299-2366.

SUPPLEMENTARY INFORMATION: The FHWA and FTA in cooperation with the Colorado Department of Transportation (CDOT), Regional Transportation District (RTD), and the City and County of Denver (Denver) will prepare an environmental impact statement (EIS)/Section 4(f) Evaluation for transportation improvements on the Interstate 70 (I-70) Corridor (the Corridor) between Interstate 25 (I-25) and Pena Boulevard and a transit connection between downtown Denver and Denver International Airport (DIA).

Letters describing the proposed action and soliciting comments will be sent to appropriate Federal, State, and local agencies. Project scoping will be accomplished through coordination with affected parties, stakeholders, organizations, Federal, State, and local agencies; agency scoping meetings; and through community outreach and public meetings in the project corridor. Agency scoping meetings will be conducted late summer, and public scoping meetings will be conducted this fall (2003). Information on the time and place of the public scoping meetings will be provided in the local newspapers. In advance of the corridor-wide public scoping meetings this fall (2003), a variety of grassroots outreach techniques will be used including a door-to-door campaign for some of the neighborhoods, flyers, block and neighborhood meetings, and business and community-organization outreach meetings. To be placed on the public mailing list to receive additional project information, contact either Sharon Lipp or Mike Turner at the addresses previously provided.

To ensure that a full range of issues related to the proposed action are addressed and all significant issues identified, comments and suggestions are invited from all interested parties. Comments or questions concerning this proposed action and the EIS/Section 4(f). Evaluation should be directed to Shaun Cutting or Dave Beckhouse at the addresses previously provided.

The EIS/Section 4(f) Evaluation will evaluate improvement alternatives and the No-Action alternative based on the Purpose and Need. Alternatives will be developed through an extensive agency and community outreach process. A full range of potential alignments and corridors will be considered for both highway and transit alternatives.

The I-70 East Corridor EIS will result in a decision about which transportation projects, if any, will be built to improve safety and address congestion in the Corridor. The purpose of the proposed action is to improve safety, access, and mobility and to decrease congestion. Currently, the I-70 East Corridor is one of the most heavily traveled and congested corridors in the region and State. Downtown Denver is the center for rail and bus transit in the region. DIA is a critical link in the regional and national transportation network. Safety issues revolve around the age and design features of the interchanges and roadway.

The alternatives evaluated in the Draft EIS (DEIS) and Section 4(f) Evaluation will include, but not be limited to, variations of the horizontal and vertical alignment of I-70 as well as capacity and safety improvements. Existing and future interchanges will also be evaluated. Transit alternatives will include, but not be limited to, bus and rail technologies as well as evaluating rail transit along the Union Pacific Railroad corridor from downtown Denver to DIA. As part of the transit evaluations, station locations will be studied and identified as appropriate. The DEIS/Section 4(f) Evaluation will also fully evaluate the No-Action alternative.

FHWA and FTA will evaluate social, economic, and environmental impacts of the various alternatives. A major concern is environmental justice. The Corridor passes through three older communities that have been affected by several actions on I-70 beginning with the initial construction of I-70 and subsequent actions including reconstruction of the I-70 viaduct and roadway widening on the western segment of the Corridor. Other major issues to be evaluated include air quality, noise, aesthetics, community cohesion impacts, and possible disruption of neighborhoods and business and commercial activities.

The DEIS will be available for public and agency review and comment. Information concerning the availability of the DEIS will be published.

(Catalog of Federal Domestic Assistance Program Number 20.205, Highway Planning and Construction. The regulations implementing Executive Order 12372 regarding intergovernmental consultation on Federal programs and activities apply to this program)

Doug Bennett,
Assistant Division Administrator, Colorado Division, Federal Highway Administration, Lakewood, Colorado.
Lee O. Waddleton,
Regional Administrator, Federal Transit Administration, Denver, Colorado.

[FR Doc. 03-21122 Filed 8-18-03; 8:45 am]

BILLING CODE 4910-22-M